DEPARTMENT OF DEFENSE

Department of the Navy

Notice of Availability of Government Owned Invention; Available for Licensing

AGENCY: Department of the Navy, DoD.

ACTION: Notice.

SUMMARY: The invention listed below is assigned to the United States Government as represented by the Secretary of the Navy and is available for licensing by the Department of the Navy.

Navy Case No. 83860 and Navy Case No. 84146 entitled “Internal Locking Device for Use on Magazine Doors.”

ADDRESSES: Requests for copies of the Navy Case Numbers cited should be directed to the Naval Research Laboratory, Code 3008.2, 4555 Overlook Ave., SW., Washington, DC 20375-5320.

FOR FURTHER INFORMATION CONTACT: Dr. Richard H. Rein, Head, Technology Transfer Office, NRL, Code 1004, 4555 Overlook Ave., SW., Washington, DC 20375-5320, telephone (202) 767-7230.

(Authority: 35 U.S.C. 207, 37 CFR part 404.)

Dated: May 20, 2003.
E.F. McDonnell,
Major, U.S. Marine Corps, Federal Register Liaison Officer.

[FR Doc. 03-13585 Filed 5-29-03; 8:45 am]

BILLING CODE 3810-FF-M